DEPARTMENT OF THE INTERIOR

Bureau of Reclamation

Northwest Area Water Supply Project, North Dakota

AGENCY: Bureau of Reclamation, Interior.

ACTION: Notice of intent (NOI) to prepare an environmental impact statement.

SUMMARY: The Bureau of Reclamation (Reclamation) is commencing work under the National Environmental Policy Act on an environmental impact statement (EIS) for the Northwest Area Water Supply Project (NAWS Project), a Federal reclamation project, located in North Dakota. This NOI is being published to describe the proposed action, the purpose of and need for that proposal, the scope of the EIS, and to solicit public comments during a formal scoping period.

Reclamation is initiating a formal scoping period of 60 days following publication of this NOI. Reclamation invites all interested parties to submit written comments or suggestions related to the significant issues, potential impacts and reasonable alternatives to the proposed action during the scoping period. Reclamation will provide a separate project information document that outlines EIS actions, timelines, and public involvement opportunities to all interested parties. The project information document will contain details related to this action that will assist the interested public in providing comments during the scoping period.

DATES: Individuals who want to receive the additional project information document should contact Reclamation's Project Manager within 15 days following publication of this NOI.

Written comments or e-mails on the NOI should be received by May 5, 2006. Comments received after that date will be considered to the extent practical.

ADDRESSES: Written comments should be submitted to: Bureau of Reclamation, Dakotas Area Office, P.O. Box 1017, Bismarck, ND 58502.

FOR FURTHER INFORMATION CONTACT: Alicia Waters, Northwest Area Water Supply Project EIS, Bureau of Reclamation, Dakotas Area Office, P.O. Box 1017, Bismarck, ND 58502; Telephone: (701) 250-4242 extension 3621; or Fax to (701) 250-4326. You may submit e-mail to awaters@gp.usbr.gov.

SUPPLEMENTARY INFORMATION:

Background

The Garrison Diversion Unit's Municipal, Rural and Industrial Water Supply (MR&I) program was authorized by the U.S. Congress on May 12, 1986, through the Garrison Diversion Unit Reformulation Act of 1986. This act authorized the appropriation of $200 million of Federal funds for the planning and construction of water supply facilities throughout North Dakota. The NAWS project, initiated in November 1987, is being developed as a result of this authorization.

The NAWS project is designed as a bulk water distribution system that will service local communities and rural water systems in 10 counties in northwestern North Dakota including the community of Minot. The NAWS Project is an interbasin transfer of water from Lake Sakakawea, in the Missouri River basin in North Dakota, to Minot, North Dakota, in the Hudson Bay basin. Reclamation completed an Environmental Assessment (EA) and Finding of No Significant Impact (FONSI) for the project in 2001. Construction on the project began in April 2002. In October 2002, the Province of Manitoba filed a legal challenge in U.S. District Court in Washington, DC to compel the Department of the Interior to complete an EIS on the project. A Court Order dated February 3, 2005, remanded the case to Reclamation for completion of additional environmental analysis.

During the pendancy of the litigation filed by Manitoba, construction continued on the project. Construction of the raw water core pipeline for NAWS began in April 2002. Approximately 30 miles of this pipeline have been completed to date. Contract 2-1D provides for installation of 14.9 miles of pipe, cathodic protection, and appurtenances. The date allowed for completion of this contract is October 21, 2006, and once this contract is finished, the raw water core pipeline of the NAWS system will be complete. Work on the distribution system, water treatment facilities, and other features of the project has not yet commenced.

Purpose of the Proposed Action

The purpose of the NAWS Project is to provide a reliable source of high quality treated water from Lake Sakakawea, a reservoir on the Missouri River in North Dakota to northwestern North Dakota for MR&I uses. The purpose of the proposed action is to deliver treated water to affected communities from the Missouri River using methods and measures that minimize the risk of non-native biota transfer.

Need for the Proposed Action

The NAWS Project is needed: (1) To provide high quality treated water because northwestern North Dakota has experienced water supply problems for many years; (2) to replace poor quality groundwater sources presently used for MR&I purposes; and (3) because there are insufficient surface water supplies from both a quality and quantity standpoint. The proposed action that is the subject of this DEIS is needed for the following reasons: (1) to provide a reliable source of high quality treated water from the Missouri River in North Dakota to northwestern North Dakota for MR&I uses; and (2) to minimize the possibility for transfer of non-native biota from the Missouri River drainage into the Hudson Bay drainage in the NAWS Project area.

The Proposed Action

Reclamation proposes to complete construction of the remaining NAWS Project features and facilities to deliver water to municipal, rural and industrial water users in the service area while minimizing the risk of transfer of non-native biota. Such project features and facilities include (but are not limited to): (1) Construction and operation of suitable water treatment plant(s) located at specified points and using appropriate treatment methods to minimize the possibility of transferring non-native biota from the Missouri River drainage into the Hudson Bay drainage and (2) construction methods and operational measures to minimize the risk of non-native biota transfer that may occur as a result of the project water conveyance and delivery pipelines.

Scope of the Proposed Action

The geographic scope of the DEIS includes areas and resources within the United States affected by water diversion and delivery for NAWS Project purposes. This includes, but is not necessarily limited to: (1) The sites of all NAWS Project features and facilities; (2) lands that receive NAWS Project MR&I water supplies; and (3) the potential depletion affects on the Missouri River affected by water diversion for the NAWS Project.

Summary

Reclamation is engaging in this planning and EIS effort to address the relevant issues related to completion and operation of the NAWS Project. We are seeking input from the public on the development of reasonable alternatives to the proposed action and analysis of their environmental effects that will be described in the EIS.

Public Disclosure

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment letter. We will make all submissions from organizations or businesses, and from individuals identifying themselves as representatives or officials of organizations or businesses, available for public disclosure in their entirety.

Dated: February 7, 2006.
Michael J. Ryan,
Regional Director, Great Plains Region, Bureau of Reclamation.

[FR Doc. E6-3102 Filed 3-3-06; 8:45 am]

BILLING CODE 4310-MN-P